DEPARTMENT OF DEFENSE

Office of the Secretary

[Transmittal No. 25-0G]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-0G.

Dated: January 7, 2026.
Stephanie J. Bost,
Alternate OSD Federal Register Liaison Officer, Department of Defense.

BILLING CODE 6001-FR-P

BILLING CODE 6001-FR-C

Transmittal No. 25-0G

REPORT OF ENHANCEMENT OR UPGRADE OF SENSITIVITY OF TECHNOLOGY OR CAPABILITY (SEC. 36(B)(5)(C), AECA)

(i) Purchaser: Government of Germany

(ii) Sec. 36(b)(1), AECA Transmittal No.: 23-26

Date: May 11, 2023

Implementing Agency: Army

(iii) Description: On May 11, 2023, Congress was notified by congressional certification transmittal number 23-26 of the possible sale, under Section 36(b)(1) of the Arms Export Control Act, of sixty (60) CH-47F Block II Cargo Helicopters with customer-unique modifications; one hundred forty (140) T-55-GA-714A engines (120 installed, 20 spares); seventy-two (72) AN/AAR-57 Common Missile Warning Systems (CMWS) (60 installed, 12 spares); and two hundred eighty-four (284) AN/ARC-231A Communications Security (COMSEC) radios (240 installed, 44 spares). Also included were AN/AVR-2B Laser Detecting Sets; AN/APR-39C(V)1 Radar Detecting Sets; AN/ARC-220 High Frequency (HF) radios with electronic counter-countermeasures (ECCM); military Precise Positioning Service (PPS) (to include SAASM or M-Code); Digital Advanced Flight Control Systems (DAFCS); AN/APX-123A Identification Friend or Foe (IFF) transponder; AN/ARN-147 very high frequency (VHS) omnidirectional range and instrument landing system (VOR/ILS); AN/ARN-153 Tactical Air Navigation Systems (TACAN); air data computers; AN/APN-209 radar altimeter systems; AN/PYQ-10 simple key loaders; KIV-77 Mode 4/5 IFF Applique; KY-100M narrowband/wideband terminal COMSEC devices; AN/AVS-6 Night Vision Devices (NVD); IDM-401 Improved Data Modem; air-to-air refueling probes; M134 gun mounts; Infrared Suppression System (IRSS); Engine Air Particle Separator (EAPS); Ballistic Protection System (BPS) with Cockpit; cabin sides; Midas Underfloor COOLS; Extended Range Fuel System (ERFS) 800 gal and 500 gal; Forward Area Refueling Equipment (FARE); Tie Down Materiel/Helicopter Under-Slung Load Equipment (HUSLE) for internal and external loads; rotorbrake; rescue hoists; Fast Rope Insertion/Extraction System (FRIES); Electro Optical Infrared Sensors (EO/IR); crash resistant pilot and troop seats; skis; life rafts; litter straps and fittings; mission equipment (e.g., jungle penetrator; litter basket; Jacob's ladder; Airborne Tactical Extraction Platform (AirTEP); special tools and test equipment; ground support equipment; airframe and engine spare parts; technical data; publications; Maintenance Work Orders/Engineering Change Proposals (MWO/ECPs); Repair and Return (R&R); technical assistance; airworthiness assistance; transportation of aircraft; training; flight training and maintenance trainers; and other related elements of logistics and program support. The total estimated cost was $8.5 billion. Major Defense Equipment (MDE) constituted $3.35 billion of this total.

This transmittal notifies the inclusion of the following MDE items: forty-seven (47) OT-228/U Common Infrared Countermeasures (CIRCM) and one hundred forty-four (144) “EAGLE-M” aviation navigation systems comprised of Enhanced Aviation Global Air Traffic Management (GATM) systems, Localizer Performance with Vertical Guidance (LPV) instruments, and Embedded Global Positioning System (GPS)/Inertial Navigation Systems (INS) (EGIs) with M-code. The following non MDE items will also be included: Multi-Platform Anti-Jam GPS Navigation Antenna-Federated (MAGNA-F), Type Designator: AS-4840; communications systems; and other related elements of logistics and program support. The estimated total cost of the new items is $0.63 billion. The estimated MDE value will increase by $0.63 billion to a revised $3.98 billion but will not require an increase in the estimated total case value. Instead, $0.63 billion of the available, previously notified non-MDE value will be transferred to the MDE value, causing a decrease in non-MDE value to $4.52 billion. The estimated total case value will remain at $8.50 billion.

(iv) Significance: This notification is being provided because the additional MDE items were not enumerated in the original notification. The inclusion of this MDE represents an increase in capability over what was previously notified. The proposed sale will improve Germany's capability to meet current and future regional threats, reinforce its ability to maintain regional stability, and increase the defensive capabilities of its military. The sale supports U.S. national security interests by bolstering land defense in Europe.

(v) Justification: This proposed sale will support the foreign policy and national security of the United States by improving the security of a NATO Ally that is an important force for political and economic stability in Europe.

(vi) Sensitivity of Technology:

CIRCM is the next-generation lightweight, laser-based, infrared countermeasure system for rotary-wing, tilt-rotor, and small fixed-wing aircraft. CIRCM provides near spherical coverage of the host platform to defeat infrared-seeking missiles. It receives an angular bearing hand-off from the CMWS or Limited Interim Missile Warning System (LIMWS), and employs a pointing and tracking system that acquires and tracks the incoming missile, and jams the missile using modulated laser energy to degrade the tracking capability of the missile, causing it to miss the aircraft.

The EAGLE-M, also known as EAGLE M+429, contains sensitive technology that provides GPS hardening when loaded with COMSEC keys.

The MAGNA-F antenna nulls unwanted signals using digital processing technology.

The highest level of classification of defense articles, components, and services included in this potential sale is UNCLASSIFIED.

(vii) Date Report Delivered to Congress: April 23, 2025

[FR Doc. 2026-00305 Filed 1-9-26; 8:45 am]

BILLING CODE 6001-FR-P